DEPARTMENT OF TRANSPORTATION

Federal Aviation Administration

14 CFR Part 71

[Docket No. FAA-2020-1071; Airspace Docket No. 20-ACE-13]

RIN 2120-AA66

Amendment of V-175 and V-586; Establishment of T-397; and Revocation of V-424 in the Vicinity of Macon, MO

AGENCY: Federal Aviation Administration (FAA), DOT.

ACTION: Final rule.

SUMMARY: This action amends VHF Omnidirectional Range (VOR) Federal airways V-175 and V-586; establishes Area Navigation (RNAV) route T-397; and removes VOR Federal airway V-424 in the vicinity of Macon, MO. The Air Traffic Service (ATS) route modifications are necessary due to the planned decommissioning of the VOR portion of the Macon, MO, VOR/Distance Measuring Equipment (VOR/DME) navigational aid (NAVAID). With the exception of RNAV route T-397, the Macon VOR/DME NAVAID provides navigation guidance for portions of the affected air traffic service (ATS) routes. The VOR is being decommissioned as part of the FAA's VOR Minimum Operational Network (MON) program.

DATES: Effective date 0901 UTC, October 7, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Colby Abbott, Rules and Regulations Group, Policy Directorate, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking for Docket No. FAA-2020-1071 in the Federal Register (85 FR 81431; December 16, 2020), amending VOR Federal airways V-175 and V-586; establishing RNAV route T-397; and removing VOR Federal airway V-424 in the vicinity of Macon, MO. The proposed amendment, establishment, and revocation actions were due to the planned decommissioning of the VOR portion of the Macon, MO, VOR/DME NAVAID. Interested parties were invited to participate in this rulemaking effort by submitting written comments on the proposal. No comments were received.

VOR Federal airways are published in paragraph 6010(a) and RNAV T-routes are published in paragraph 6011 of FAA Order 7400.11E, dated July 21, 2020, and effective September 15, 2020, which is incorporated by reference in 14 CFR 71.1. The ATS routes listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This action amends 14 CFR part 71 by modifying VOR Federal airways V-175 and V-586; establishing RNAV route T-397; and removing VOR Federal airway V-424. The planned decommissioning of the VOR portion of the Macon, MO, VOR/DME has made this action necessary.

The VOR Federal airway changes are outlined below.

V-175: V-175 extends between the Malden, MO, VOR/Tactical Air Navigation (VORTAC) and the Des Moines, IA, VORTAC; and between the Worthington, MN, VOR/DME and the Alexandria, MN, VOR/DME. The airway segment overlying the Macon, MO, VOR/DME between the Hallsville, MO, VORTAC and the Kirksville, MO, VORTAC is removed. The unaffected portions of the existing airway remain as charted.

V-424: V-424 extends between the Napoleon, MO, VORTAC and the Macon, MO, VOR/DME. The airway is removed in its entirety.

V-586: V-586 extends between the intersection of the Kansas City, MO, VORTAC 077° and Napoleon, MO, VORTAC 005° radials (EXCEL fix) and the Joliet, IL, VORTAC. The airway segment overlying the Macon, MO, VOR/DME between the intersection of the Kansas City, MO, VORTAC 077° and Napoleon, MO, VORTAC 005° radials (EXCEL fix) and the Quincy, IL, VORTAC is removed. The unaffected portions of the existing airway remain as charted.

The RNAV T-route is outlined below.

T-397: T-397 is a new route that extends between the Walnut Ridge, AR, VORTAC and the Waterloo, IA, VOR/DME. This RNAV route mitigates the loss of the V-175 airway segment noted above and provides RNAV routing capability between the Walnut Ridge, AR, area and the Cedar Falls, IA, area.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of modifying VOR Federal airways V-175 and V-586; establishing RNAV route T-397; and removing VOR Federal airway V-424, due to the planned decommissioning of the VOR portion of the Macon, MO, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(a) Domestic VOR Federal Airways.

* * * * *

V-175 [Amended]

From Malden, MO; Vichy, MO; to Hallsville, MO. From Kirksville, MO; to Des Moines, IA. From Worthington, MN; Redwood Falls, MN; to Alexandria, MN.

* * * * *

V-424 [Removed]

* * * * *

V-586 [Amended]

From Quincy, IL; Peoria, IL; Pontiac, IL; to Joliet, IL.

* * * * *

Paragraph 6011 United States Area Navigation Routes.

* * * * *

T-397 Walnut Ridge, AR (ARG) to Waterloo, IA (ALO) [New]
Walnut Ridge, AR (ARG) | VORTAC | (Lat. 36°06′36.07″ N, long. 090°57′13.30″ W)
Vichy, MO (VIH) | VOR/DME | (Lat. 38°09′14.66″ N, long. 091°42′24.38″ W)
LEWRP, MO | WP | (Lat. 40°08′06.06″ N, long. 092°35′30.15″ W)
OHGEE, IA | FIX | (Lat. 40°49′06.04″ N, long. 093°08′24.11″ W)
LACON, IA | FIX | (Lat. 41°08′23.43″ N, long. 093°24′09.22″ W)
Des Moines, IA (DSM) | VORTAC | (Lat. 41°26′15.45″ N, long. 093°38′54.81″ W)
Waterloo, IA (ALO) | VOR/DME | (Lat. 42°33′23.39″ N, long. 092°23′56.13″ W)

* * * * *

Issued in Washington, DC, on July 20, 2021.
George Gonzalez,
Acting Manager, Rules and Regulations Group.

[FR Doc. 2021-15835 Filed 7-26-21; 8:45 am]

BILLING CODE 4910-13-P